COMMITTEE FOR PURCHASE FROM PEOPLE WHO ARE BLIND OR SEVERELY DISABLED

Procurement List; Proposed Additions and Deletion

AGENCY: Committee for Purchase From People Who Are Blind or Severely Disabled.

ACTION: Proposed Additions to and Deletion from the Procurement List.

SUMMARY: The Committee is proposing to add products and services to the Procurement List that will be furnished by nonprofit agencies employing persons who are blind or have other severe disabilities, and deletes a product previously provided by such agency.

DATES: Comments Must Be Received On Or Before: 7/14/2014.

ADDRESSES: Committee for Purchase From People Who Are Blind or Severely Disabled, 1401 S. Clark Street, Suite 10800, Arlington, Virginia, 22202-4149.

For Further Information Or To Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

Toner Cartridge, Remanufactured, Lexmark

NSN: 7510-00-NSH-0211—Optra T620/T622 Series Compatible

NSN: 7510-00-NSH-0212—Optra T630/T632/T634 Series Compatible

NSN: 7510-00-NSH-1010—Optra T644/X644/X646 Series Compatible

NSN: 7510-00-NSH-1013—E350/E352 Series Compatible

NSN: 7510-00-NSH-1014—E450 Series Compatible

NSN: 7510-00-NSH-1051—E230/E232/E234/E330/E332/E340/E342 Series Compatible

NSN: 7510-00-NSH-1060—E260/E360/E460/E462 Series Compatible

NSN: 7510-00-NSH-1061—E360/E460/E462 Series Compatible

NSN: 7510-00-NSH-1062—E460 Series Compatible

NSN: 7510-00-NSH-1063—Multiple T and X Compatible, 25,000 page

NSN: 7510-00-NSH-1064—Multiple T and X Series Compatible, 36,000 page

NSN: 7510-00-NSH-1208—Kit, Maintenance, T620/620N Series Compatible

NPA: TRI Industries NFP, Chicago, IL

Contracting Activity: General Services Administration, New York, NY

Coverage: A-List for the Total Government Requirement as aggregated by the General Services Administration, New York, NY.

Calcium, Lime, and Rust Remover

NSN: 6850-00-NIB-2165—12/28 oz. Bottles

NSN: 6850-00-NIB-2166—4/1 Gallon Bottles

NPA: The Lighthouse for the Blind, St. Louis, MO

Contracting Activity: Defense Logistics Agency Aviation, Richmond, VA

Coverage: A-List for the Total Government Requirement as aggregated by the Defense Logistics Agency Aviation, Richmond, VA.

Services

Service Type/Location: Warehouse & Supply Support Service, Space and Naval Warfare Systems Center Atlantic One Innovation Dr., Building 3147, North Charleston, SC

NPA: Goodwill Services, Inc., Richmond, VA

Contracting Activity: Dept of the Navy, SPAWAR Systems Center Atlantic, North Charleston, SC

Service Type/Location: Grounds Maintenance Service, Mission and Installation Contracting Command, 1792 12th Street, Fort Riley, KS

NPA: Skookum Educational Programs, Bremerton, WA

Contracting Activity: Dept of the Army, W6QM MICC-FT RILEY, Fort Riley, KS

Service Type/Location: Assembly, Kitting, Warehousing, Distribution, and Fulfillment Service, National Park Service, Interpretation and Education Division, 1849 C Street NW., Washington, DC

NPA: Industries for the Blind, Inc., West Allis, WI

Contracting Activity: Dept of the Interior, National Park Service, NCR Regional Contracting, Washington, DC

Deletion

The following product is proposed for deletion from the Procurement List:

Product

Winter Blue Dress Uniform Shirt

NSN: PGC496—USCG, Unisex, Long Sleeve

NPA: Oswego Industries, Inc., Fulton, NY

Contracting Activity: HQ Contract Operations (CG-912), Washington, DC

Barry S. Lineback,
Director, Business Operations.

[FR Doc. 2014-13851 Filed 6-12-14; 8:45 am]

BILLING CODE 6353-01-P